AGENCY FOR INTERNATIONAL DEVELOPMENT

USAID/MEXICO-RFI 2023-003, Local Partner and Sub-Partner Outreach

AGENCY: United States Agency for International Development/Mexico Mission (USAID/Mexico).

ACTION: Notice of information collection; request for comment.

SUMMARY: USAID/Mexico is seeking to increase understanding of the organizational landscape throughout the country to enhance USAID's development approach and understand local organizations' priority topic areas and capacities. USAID is issuing this Request for Information (RFI) to solicit information and potential interest from organizations to diversify USAID's partner and sub-partner base. The goal of the RFI is to better understand the organizational landscape in Mexico; diversify USAID/Mexico's partner and sub-partner base by creating avenues for new and underutilized partners and sub-partners to work with USAID; and brainstorm methods to support partners and sub-partners to become self-reliant and capable of achieving their development goals. The research data will be aggregated and not provide PII or other privacy-related information. USAID/Mexico invites the general public and other Federal agencies to take this opportunity to comment on the following new information collection, as required by the Paperwork Reduction Act of 1995.

DATES: All comments should be submitted within 30 calendar days from the date of this publication.

ADDRESSES: To access and review all the documents related to the information collection listed in this notice, please access the survey questionnaire at https://docs.google.com/forms/d/e/1FAIpQLSc8c7OMyjoEGV_Rpr8M7q1K9cYUnqz_zYKFCdq-Luz00nbifA/viewform?usp=sharing.

Comments submitted in response to this notice should be submitted electronically through the Federal Register.

FOR FURTHER INFORMATION CONTACT: Written requests for information or comments should be addressed to Andrea Capellan, Director, Office of Acquisition and Assistance, USAID/Mexico via email at Acapellan@usaid.gov.

Verbal requests for information or comments submitted can contact +1 571-277-0121.

SUPPLEMENTARY INFORMATION:

Title of Information Collection: USAID/MEXICO-RFI 2023-003, Local Partner and Sub-Partner Outreach.

Type of Request: Notice for public comment; generic clearance.

Originating Office: USAID/Mexico.

Respondents: Members of Mexican public, members of Mexican civil society organizations, members of Mexican for-profit organizations.

Respondent's Obligation To Respond: Voluntary.

Estimated Number of Respondents: 300.

Average Time per Response: 20 minutes for survey respondents.

Frequency of Response: Approximately every year.

Total Estimated Burden: 90 hours.

Total Estimated Cost: $3,000.

We are soliciting public comments to permit USAID to:

• Evaluate the accuracy of our estimate of the time and cost burden for this proposed collection, including the validity of the methodology and assumptions used.

• Enhance the quality, utility, and clarity of the information to be collected.

• Minimize the reporting burden on those who are to respond, including the use of automated collection techniques or other forms of information technology.

No comments were received during the 60-day notice. Written comments and recommendations for the proposed information collection should be sent within 30 days of publication of this notice to www.reginfo.gov/public/do/PRAMain. Find this particular information collection by selecting “Currently under 30-day Review—Open for Public Comments” or by using the search function.

Please note that comments submitted in response to this Notice are public record.

Andrea Capellan,
Director, Office of Acquisition and Assistance, USAID/Mexico.

[FR Doc. 2023-24286 Filed 11-2-23; 8:45 am]

BILLING CODE 6116-01-P